DEPARTMENT OF HEALTH AND HUMAN SERVICES

Centers for Disease Control and Prevention

Mine Safety and Health Research Advisory Committee (MSHRAC)

AGENCY: Centers for Disease Control and Prevention (CDC), Department of Health and Human Services (HHS).

ACTION: Notice of meeting.

SUMMARY: In accordance with the Federal Advisory Committee Act, the CDC announces the following meeting for the Mine Safety and Health Research Advisory Committee (MSHRAC). This is a virtual meeting. It is open to the public, limited only by web conference lines (500 web conference lines are available). If you wish to attend, please contact Marie Chovanec by email at MChovanec@cdc.gov or by telephone at 412-386-5302 at least 5 business days in advance of the meeting. She will provide you the Zoom web conference access.

DATES: The meeting will be held on June 2, 2020, 10:00 a.m.-2:30 p.m., EDT.

ADDRESSES: The Zoom web conference access can be obtained via email at MChovanec@cdc.gov or by telephone at 412-386-5302.

FOR FURTHER INFORMATION CONTACT: Jeffrey H. Welsh, Designated Federal Officer, MSHRAC, NIOSH, CDC, 626 Cochrans Mill Road, Pittsburgh, PA 15236, telephone 412-386-4040; email jwelsh@cdc.gov.

SUPPLEMENTARY INFORMATION:

Purpose: This committee is charged with providing advice to the Secretary, Department of Health and Human Services; the Director, CDC; and the Director, NIOSH, on priorities in mine safety and health research, including grants and contracts for such research, 30 U.S.C. 812(b)(2), Section 102(b)(2).

Matters to be Considered: The agenda will include discussions on mining safety and health research projects and outcomes, including updates from one MSHRAC Workgroup, the Health Advisory in the Mining Program (HAMP) Workgroup, NIOSH Miner Health Program strategic plan, NIOSH Mining respirable crystalline silica research, Understanding elongate mineral particle exposure in mining, Research roadmap for haul truck health and safety issues, and Future of the coal industry presentation. The meeting will also include an update from the NIOSH Associate Director for Mining. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-09306 Filed 4-30-20; 8:45 am]

BILLING CODE 4163-18-P